DEPARTMENT OF ENERGY

U.S. Energy Information Administration

Agency Information Collection Extension

AGENCY: U.S. Energy Information Administration (EIA), Department of Energy.

ACTION: Notice and request for OMB review and comment.

SUMMARY: The EIA has submitted an information collection request to the OMB for extension under the provisions of the Paperwork Reduction Act of 1995. The information collection requests a three-year extension of its Uranium Data Program, OMB Control Number 1905-0160. The proposed collection will modify and continue the use of Form EIA-851A “Domestic Uranium Production Report (Annual),” Form EIA-851Q “Domestic Uranium Production Report (Quarterly),” and the Form EIA-858 “Uranium Marketing Annual Survey.” EIA proposed minor changes to Form EIA-851Q and its reporting instructions, and to the reporting instructions to Form EIA-851A and Form EIA-858.

DATES: Comments regarding this proposed information collection must be received on or before September 26, 2012. If you anticipate that you will be submitting comments, but find it difficult to do so within the period of time allowed by this notice, please advise the DOE Desk Officer at OMB of your intention to make a submission as soon as possible. The Desk Officer may be telephoned at 202-395-4718.

ADDRESSES: Written comments should be sent to the

DOE Desk Officer, Office of Information and Regulatory Affairs, Office of Management and Budget, New Executive Office Building, Room 10102, 735 17th Street NW., Washington, DC 20503.

And to

Department of Energy, U.S. Energy Information Administration, Attn: Douglas Bonnar, EI-23, Forrestal Building, 1000 Independence Avenue SW., Washington, DC 20585, 202-586-1085, Fax at 202-586-3045, Email at douglas.bonnar@eia.gov.

FOR FURTHER INFORMATION CONTACT: Requests for additional information or copies of the information collection instrument and instructions should be directed to Douglas Bonnar at the contact information given above. Forms and instructions are also available on the Internet at: http://www.eia.gov/survey/#uranium.

SUPPLEMENTARY INFORMATION: This information collection request contains: (1) OMB No.: 1905-0160; (2) Information Collection Request Title: Uranium Data Program; (3) Type of Request: Extension of a currently approved collection; (4) Purpose: Collects basic data necessary to meet EIA's legislative mandates as well as the needs of the Congress, Federal Government, State and local governments, industry, and the general public; (5) Annual Estimated Number of Respondents: 131; (6) Annual Estimated Number of Total Responses: 205; (7) Annual Estimated Number of Burden Hours: 1,460; (8) Annual Estimated Reporting and Recordkeeping Cost Burden: EIA estimates that there are no additional costs to respondents associated with the surveys other than the costs associated with the burden hours.

Statutory Authority: Section 13(b) of the Federal Energy Administration Act of 1974, Public Law 93-275, codified at 15 U.S.C. 772(b).

Issued in Washington, DC, on August 16, 2012.
Stephanie Brown,
Director, Office of Survey Development and Statistical Integration, U.S. Energy Information Administration.

[FR Doc. 2012-21020 Filed 8-24-12; 8:45 am]

BILLING CODE 6450-01-P